DEPARTMENT OF ENERGY

Federal Energy Regulatory Commission

[Docket No. EC04-114-000, et al.]

Duke Energy North America, LLC, et al.; Electric Rate and Corporate Filings

June 1, 2004.

The following filings have been made with the Commission. The filings are listed in ascending order within each docket classification.

1. Duke Energy North America, LLC, on behalf of Duke Energy Arlington Valley, LLC, Duke Energy Enterprise, LLC, Duke Energy Fayette, LLC, Duke Energy Grays Harbor, LLC, Duke Energy Hanging Rock, LLC, Duke Energy Hinds, LLC, Duke Energy Hot Spring, LLC, Duke Energy Lee, LLC, Duke Energy Marshall County, LLC, Duke Energy Murray, LLC, Duke Energy Moapa, LLC, Duke Energy New Albany, LLC, Duke Energy St, Francis, LLC, Duke Energy Sandersville, LLC, Duke Energy Southaven, LLC, Duke Energy Washington, LLC, Duke Energy Mohave, LLC, Griffith Energy LLC, Duke Energy Vermillion LLC, Casco Bay Energy Company LLC, Duke Energy Oakland LLC, Duke Energy Morro Bay LLC, Duke Energy Moss Landing LLC, Duke Energy South Bay LLC, Bridgeport Energy, LLC, Duke Energy Marketing America, LLC

[Docket No. EC04-114-000]

Take notice that on May 27, 2004, Duke Energy North America, LLC, on behalf of certain of its public utility affiliates as listed in the above caption (the Applicants) filed with the Commission an application pursuant to section 203 of the Federal Power Act for authorization of an intracorporate reorganization among certain of Duke Energy Corporation's subsidiaries that own indirect interests in the Applicants.

Comment Date: June 17, 2004.

2. R.E. Ginna Nuclear Power Plant, LLC

[Docket No. EG04-73-000]

Take notice that on May 26, 2004, R.E. Ginna Nuclear Power Plant, LLC (Ginna LLC) filed with the Commission an application for determination of exempt wholesale generator status pursuant to part 365 of the Commission's regulations.

Comment Date: June 16, 2004.

3. Sunoco Power Generation LLC

[Docket No. EG04-74-000]

Take notice that on May 27, 2004, Sunoco Power Generation LLC (Sunoco Power) filed an application for determination of exempt wholesale generator pursuant to part 365 of the Commission's regulations. Sunoco Power states that it will operate and sell the output at wholesale of a natural gas-fired cogeneration facility located in Westville, New Jersey, with a nameplate capacity of approximately 225 MW and a maximum operating capacity of approximately 200 MW.

Sunoco Power states that a copy of this application is being served on the Secretary of the Securities and Exchange Commission and the New Jersey Board of Public Utilities.

Comment Date: June 17, 2004.

4. PJM Interconnection, L.L.C.

[Docket No. ER03-1101-004]

Take notice that on May 26, 2004, PJM Interconnection, L.L.C. (PJM), filed responses to the Commission's May 5, 2004, information requests in Docket Nos. ER03-1101-001, 002 and 003.

PJM states that copies of its filing were served upon all persons on the Commission's service list for this proceeding.

Comment Date: June 16, 2004.

5. Montana Megawatts I, LLC, NorthWestern Energy Division of NorthWestern Corporation

[Docket Nos. ER03-1223-003]

Take notice that on May 25, 2004, Montana Megawatts I, LLC (Montana Megawatts) and NorthWestern Energy Division of NorthWestern Corporation (NEW), submitted a compliance filing pursuant to the Commission's order issued May 10, 2004, in Docket Nos. ER03-1223-001 and 002, 107 FERC ¶ 61,140 (2004).

Montana Megawatts states that copies of the filing were served upon parties appearing in the official service list for this docket.

Comment Date: June 15, 2004.

6. Midwest Independent Transmission System Operator, Inc.

[Docket No. ER04-106-002]

Take notice that on May 26, 2004, the Midwest Independent Transmission System Operator, Inc. (Midwest ISO) submitted a compliance filing pursuant to the Commission's Order issued March 25, 2004, Order, Midwest Independent Transmission System Operator, Inc., 106 FERC ¶ 61,288 (2004). Midwest ISO requested an effective date of October 31, 2003.

Midwest ISO states that it has electronically served a copy of this filing, with attachments, upon all Midwest ISO Members, Member representatives of Transmission Owners and Non-Transmission Owners, the Midwest ISO Advisory Committee participants, as well as all state commissions within the region. Midwest ISO further states that the filing has been electronically posted on the Midwest ISO's Web site at http://www.midwestiso.org under the heading “Filings to FERC” for other interested parties in this matter. The Midwest ISO indicates that it will provide hard copies to any interested parties upon request.

Comment Date: June 16, 2004.

7. California Independent System Operator Corporation

[Docket No. ER04-855-000]

On May 26, 2004, the California Independent System Operator Corporation (ISO) tendered for filing Amendment No. 2 to the Interconnected Control Area Operating Agreement (ICAOA) between the ISO and Nevada Power Company (NEVP). The ISO requests that the agreement be made effective as of May 14, 2004.

ISO states that the non-privileged elements of this filing have been served on NEVP, the California Public Utilities Commission, and all entities on the official service lists for the original ICAOA in Docket No. ER00-2292-000 and Amendment No. 1 to the ICAOA in Docket No. ER01-1995-000.

Comment Date: June 16, 2004.

8. Virginia Electric and Power Company

[Docket No. ER04-862-000]

Take notice that on May 24, 2004, Virginia Electric and Power Company, doing business as Dominion Virginia Power, submitted an executed Generator Interconnection and Operating Agreement (Interconnection Agreement) with Tenaska Virginia Partners, L.P. (Tenaska) substituting an executed final letter allowing for the energization of Tenaska's generating facility in parallel operation with Dominion Virginia Power's transmission system for the form letter contained in Appendix E of the Interconnection Agreement. Dominion Virginia Power has requested that the effective date of the Interconnection Agreement remain as November 9, 2001.

Dominion Virginia Power states that copies of the filing were served upon Tenaska and the Virginia State Corporation Commission.

Comment Date: June 14, 2004.

9. Consolidated Edison Company of New York, Inc.

[Docket No. ER04-863-000]

Take notice that on May 24, 2004, Consolidated Edison Company of New York, Inc. (Con Edison) tendered for filing a Supplement to its Rate Schedule FERC No. 117, an agreement to provide interconnection and transmission service to LIPA. ConEdison states that the Supplement provides for an increase in the annual fixed rate carrying charges. Con Edison has requested an effective date of of June 1, 2003.

Con Edison states that a copy of this filing has been served by mail upon LIPA.

Comment Date: June 14, 2004.

10. Consolidated Edison Company of New York

[Docket No. ER04-864-000]

Take notice that on May 24, 2004, Consolidated Edison Company of New York, Inc. (Con Edison) tendered for filing a Supplement to its Rate Schedule, Consolidated Edison Company of New York, Inc. Rate Schedule FERC No. 2, a facilities agreement with Central Hudson Gas and Electric Corporation (CH). ConEdison states that the supplement provides for a decrease in the monthly carrying charges. Con Edison has requested that this decrease take effect as of September 1, 2003.

Con Edison states that a copy of this filing has been served by mail upon CH.

Comment Date: June 14, 2004.

11. Consolidated Edison Company of New York, Inc.

[Docket No. ER04-865-000]

Take notice that on May 24, 2004, Consolidated Edison Company of New York, Inc. (Con Edison) tendered for filing supplements to its Rate Schedule, Consolidated Edison Company of New York, Inc. Rate Schedule FERC No. 129, a facilities agreement with Orange and Rockland Utilities, Inc. Con Edison states that the supplement provides for an increase in the carrying charges under the facilities agreement.

Con Edison states that a copy of this filing has been served upon Orange and Rockland Utilities, Inc.

Comment Date: June 14, 2004.

12. Consolidated Edison Company of New York, Inc.

[Docket No. ER04-866-000]

Take notice that on May 24, 2004, Consolidated Edison Company of New York, Inc. (Con Edison), submitted a filing amending its Tariff for the Wholesale Sale of Electricity at Market-Based Rates to include the Market Behavior Rules promulgated by the Commission. Investigation of Terms and Conditions of Public Utility Market-Based Rate Authorizations, 105 FERC ¶ 61,218 (2003). Con Edison requested an effective date of May 25, 2004.

Comment Date: June 14, 2004.

13. American Electric Power Service Corporation

[Docket No. ER04-867-000]

Take notice that on May 24, 2004, the American Electric Power Service Corporation (AEPSC) tendered for filing a Network Integration Transmission Service Agreement (NITSA) for HoosierEnergy Electric Cooperative, Inc. (Hoosier). This agreement is pursuant to the AEP Companies' Open Access Transmission Tariff (OATT) that has been designated as the Operating Companies of the American Electric Power System FERC Electric Tariff Third Revised Volume No. 6. AEPSC requests waiver of notice to permit an effective date of May 1, 2004.

AEPSC states that a copy of the filing was served upon the Parties and the state utility regulatory commissions of Indiana, Kentucky, Michigan, Ohio, Tennessee, Virginia and West Virginia.

Comment Date: June 14, 2004.

14. Oncor Electric Delivery Company

[Docket No. ER04-868-000]

Take notice that on May 24, 2004, Oncor Electric Delivery Company (Oncor) tendered for filing Second Revised Sheet Nos. 37-39 for its FERC Electric Tariff, Eighth Revised Volume No. 1, Tariff for Transmission Service To, From and Over Certain Interconnections to modify its rates for transmission service.

Oncor states that this filing has been served upon each customer taking service under the tariff and the Public Utility Commission of Texas.

Comment Date: June 14, 2004.

15. Pacific Gas and Electric Company

[Docket No. ER04-869-000]

Take notice that on May 24, 2004, Pacific Gas and Electric Company (PG&E) tendered for filing revisions to its Transmission Owner Tariff (TO Tariff). PG&E states that the filing is related to the California Independent System Operator's (ISO) filing allocating minimum load cost to PG&E as a Participating Transmission Owner. PG&E states that copies of this filing have been served upon the ISO, Scheduling Coordinators registered with the ISO, the California Public Utilities Commission and other parties to the official service lists in the TO Tariff rate case, FERC Docket Nos. ER04-109-000 and EL04-37-000.

Comment Date: June 14, 2004.

17. Oncor Electric Delivery Company

[Docket No. ER04 -870-000]

Take notice that on May 24, 2004, Oncor Electric Delivery Company (Oncor) tendered for filing Second Revised Sheet No. 34 for its FERC Electric Tariff, Third Revised Volume No. 2, Tariff for Transmission Service For Tex-La Electric Cooperative of Texas (“Tex-La”) to modify its rates for transmission service.

Oncor states that this filing has been served upon Tex-La and the Public Utility Commission of Texas.

Comment Date: June 14, 2004.

18. American Electric Power Service Corporation

[Docket No. ER04-871-000]

Take notice that on May 24, 2004, the American Electric Power Service Corporation (AEPSC) tendered for filing pursuant to section 35.15 of the Commission's regulations, 18 CFR section 35.15, a Notice of Termination of an executed, amended Interconnection and Operation Agreement between Appalachian Power Company and Duke Energy Wythe, L.L.C., designated as Substitute Second Service Agreement No. 405 under American Electric Power's Open Access Transmission Tariff. AEP requests an effective date of May 21, 2004.

AEPSC states that a copy of the filing was served upon Duke Energy Wythe, L.L.C. and the Virginia State Corporation Commission.

Comment Date: June 14, 2004.

19. MultiFuels Marketing Company New York, Inc.

[Docket No. ER04-872-000]

Take notice that on May 25, 2004, MultiFuels Marketing Company filed a Notice of Cancellation of its market-based rate authority.

Comment Date: June 15, 2004.

20. San Diego Gas & Electric Company

[Docket No. ER04-873-000]

Take notice that on May 25, 2004, San Diego Gas & Electric Company (SDG&E) tendered for filing for review and approval of SDG&E's 2003 costs and accruals for Post-Employment Benefits Other Than Pensions (PBOBs), as recorded in FERC Account No. 926 (Employee Pensions and Benefits). SDG&E states that this filing was made pursuant to its transmission rate formula, which contemplates that SDG&E's transmission rate will be revised annually on the basis of certain recorded and estimated costs. SDG&E further states that the transmission formula contemplates that prior to making annual transmission revenue requirement and rate revisions relating to PBOPs pursuant to the formula, SDG&E would file with the Commission under section 205 of the Federal Power Act any changes to PBOP expense levels inform in the levels reflected in the existing rate.

SDG&E states that copies of the filing were served on the California Public Utilities Commission, the California Independent System Operator (the ISO), and participating transmission owners including PG&E and SCE, and all other parties in Docket No. ER03-601-000.

Comment Date: June 15, 2004.

21. New England Power Pool

[Docket No. ER04-875-000]

Take notice that on May 26, 2004, the New England Power Pool (NEPOOL) Participants Committee filed the One Hundred Fifth Agreement Amending New England Power Pool Agreement (the 105th Agreement) that proposes to refine the calculation of the credit insurance coverage required under section V of the restated Financial Assurance Policy for NEPOOL Members, which is Attachment L to the NEPOOL Tariff. NEPOOL requests that this refinement become effective on the same effective date of the weekly billing arrangements proposed in the One Hundred Third Agreement Amending New England Power Pool Agreement (the 103rd Agreement) which is currently pending before the Commission in Docket No. ER04-697-000 with a requested effective date of June 1, 2004.

NEPOOL Participants Committee states that copies of these materials were sent to the NEPOOL Participants and the New England State governors and regulatory commissions.

Comment Date: June 16, 2004.

22. Southern California Edison Company

[Docket No. ER04-876-000]

Take notice that on May 24, 2004, Southern California Edison Company (SCE) tendered for filing an Interconnection Facilities Agreement between SCE and Eurus Energy America Corporation (Eurus Energy). SCE requests an effective date of May 27, 2004.

SCE states that copies of this filing were served upon the Public Utilities Commission of the State of California and Eurus Energy.

Comment Date: June 14, 2004.

23. Connecticut Municipal Electric Energy Cooperative

[Docket No. ER04-887-000]

Take notice that on May 25, 2004, Connecticut Municipal Electric Energy Cooperative (CMEEC) submitted for filing on an informational basis: (1) Agreement for Supplemental Installed Capacity Southwest Connecticut (LRP Resources) (6MW); (2) Agreement For Supplemental Installed Capacity Southwest Connecticut (LRP Resources) (8 MW); and (3) Agreement For Supplemental Installed Capacity Southwest Connecticut (LRP Resources) (12 MW) (collectively, the Agreements). Each of the Agreements is between CMEEC and ISO New England Inc. CMEEC states that the submission of the Agreements is in compliance with CMEEC's obligations under Article 2.1 of each Agreement.

CMEEC states that a copy of this filing has been serve upon ISO New England, Inc.

Comment Date: June 15, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1290 Filed 6-8-04; 8:45 am]

BILLING CODE 6717-01-P